ENVIRONMENTAL PROTECTION AGENCY

[EPA-HQ-OPP-2019-0369; FRL-9998-37]

Pesticide Product Registrations; Receipt of Applications for a New Site

AGENCY: Environmental Protection Agency (EPA).

ACTION: Notice.

SUMMARY: EPA has received applications to add a new site (hemp) to the labeling of currently registered pesticide products that contain active ingredients with established tolerance exemptions. Due to EPA's expectation that these initial applications involving hemp may be of significant interest to the public and to enhance transparency, EPA is hereby providing notice of receipt and opportunity to comment, although not required pursuant to the Federal Insecticide, Fungicide, and Rodenticide Act (FIFRA).

DATES: Comments must be received on or before September 23, 2019.

ADDRESSES: Submit your comments, identified by the EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the application summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. Registration Applications

When the Agriculture Improvement Act of 2018 (2018 Farm Bill) was signed into law on December 20, 2018, hemp, defined therein as the plant Cannabis sativa L. and any part of that plant with a delta-9-tetrahydrocannabinol concentration of not more than 0.3% on a dry weight basis, was removed from the Controlled Substances Act. Consequently, interest in hemp production has substantially increased over the last several months and the availability of particular tools, such as pesticides registered under FIFRA, will likely be essential to supporting the success of this industry going forward.

Because of these recent developments with regard to hemp, EPA has received applications to add hemp as a new site to the labeling of some currently registered pesticide products. These registered pesticide products contain active ingredients for which EPA previously determined the residues will be safe under any reasonably foreseeable circumstances and, pursuant to the Federal Food, Drug, and Cosmetic Act (FFDCA), established tolerance exemptions, as indicated below, for those residues in or on all raw agricultural or food commodities. As these initial applications that involve hemp may be of significant interest to the public and to enhance transparency, EPA is hereby providing notice of receipt and opportunity to comment on these applications. Notice of receipt of these applications does not imply a decision by EPA on these applications.

FIFRA section 3(c)(4) requires EPA to “publish in the Federal Register [. . .] a notice of each application for registration of any pesticide [. . .] if it would entail a changed use pattern.” As terrestrial outdoor and residential outdoor use patterns (40 CFR 158.100) were previously assessed and approved for the active ingredients listed below and because hemp, as proposed for addition to the labels of the products below, falls under these use patterns, EPA does not consider the use patterns to be changed with these applications. Thus, EPA is not statutorily required to provide an opportunity to comment and is doing so here because of the potential significant interest from the public in these initial applications and in furtherance of being completely transparent about these applications. For future pesticide registration applications that are similar to these applications and that are expected to be submitted with more regularity, EPA is not planning to notify the public of their receipt.

1. EPA Registration Number: 70310-5. Applicant: Agro Logistic Systems, Inc., P.O. Box 5799, Diamond Bar, CA 91765. Active ingredients: Azadirachtin and Neem Oil. Product type: Insecticide, Miticide, Fungicide, and Nematicide. FFDCA clearances: 40 CFR 180.1119 and 40 CFR 180.1291. Contact: BPPD.

2. EPA Registration Number: 70310-7. Applicant: Agro Logistic Systems, Inc., P.O. Box 5799, Diamond Bar, CA 91765. Active ingredients: Azadirachtin and Neem Oil. Product type: Insecticide, Miticide, Fungicide, and Nematicide. FFDCA clearances: 40 CFR 180.1119 and 40 CFR 180.1291. Contact: BPPD.

3. EPA Registration Number: 70310-8. Applicant: Agro Logistic Systems, Inc., P.O. Box 5799, Diamond Bar, CA 91765. Active ingredients: Azadirachtin and Neem Oil. Product type: Insecticide, Miticide, Fungicide, and Nematicide. FFDCA clearances: 40 CFR 180.1119 and 40 CFR 180.1291. Contact: BPPD.

4. EPA Registration Number: 70310-11. Applicant: Agro Logistic Systems, Inc., P.O. Box 5799, Diamond Bar, CA 91765. Active ingredient: Neem Oil. Product type: Insecticide, Miticide, and Fungicide. FFDCA clearance: 40 CFR 180.1291. Contact: BPPD.

5. EPA Registration Number: 84059-3. Applicant: Marrone Bio Innovations, D/B/A Marrone Bio Innovations, Inc., 1540 Drew Ave., Davis, CA 95618. Active ingredient: Extract of Reynoutria sachalinensis. Product type: Fungicide and Fungistat. FFDCA clearance: 40 CFR 180.1259. Contact: BPPD.

6. EPA Registration Number: 84059-28. Applicant: Marrone Bio Innovations, D/B/A Marrone Bio Innovations, Inc., 1540 Drew Ave., Davis, CA 95618. Active ingredient: Bacillus amyloliquefaciens strain F727. Product type: Fungicide. FFDCA clearance: 40 CFR 180.1347. Contact: BPPD.

7. EPA Registration Number: 91865-1. Applicant: Hawthorne Hydroponics LLC, D/B/A General Hydroponics, 2877 Giffen Ave., Santa Rosa, CA 95407. Active ingredients: Soybean Oil, Garlic Oil, and Capsicum Oleoresin Extract. Product type: Insecticide and Repellent. FFDCA clearances: 40 CFR 180.950(c) and 40 CFR 180.1165. Contact: BPPD.

8. EPA Registration Number: 91865-2. Applicant: Hawthorne Hydroponics LLC, D/B/A General Hydroponics, 2877 Giffen Ave., Santa Rosa, CA 95407. Active ingredient: Potassium Salts of Fatty Acids. Product type: Insecticide, Fungicide, and Miticide. FFDCA clearance: 40 CFR 180.1068. Contact: RD.

9. EPA Registration Number: 91865-3. Applicant: Hawthorne Hydroponics LLC, D/B/A General Hydroponics, 2877 Giffen Ave., Santa Rosa, CA 95407. Active ingredient: Bacillus amyloliquefaciens strain D747. Product type: Fungicide and Bactericide. FFDCA clearance: 40 CFR 180.1308. Contact: BPPD.

10. EPA Registration Number: 91865-4. Applicant: Hawthorne Hydroponics LLC, D/B/A General Hydroponics, 2877 Giffen Ave., Santa Rosa, CA 95407. Active ingredient: Azadirachtin. Product type: Insect Growth Regulator and Repellent. FFDCA clearance: 40 CFR 180.1119. Contact: BPPD.

Authority: 7 U.S.C. 136 et seq.

Dated: August 13, 2019.
Robert McNally,
Director, Biopesticides and Pollution Prevention Division, Office of Pesticide Programs.

[FR Doc. 2019-18151 Filed 8-22-19; 8:45 am]

BILLING CODE 6560-50-P